DEPARTMENT OF TRANSPORTATION

Federal Aviation Administration

14 CFR Part 39

[Docket No. FAA-2018-1005; Product Identifier 2018-NM-109-AD; Amendment 39-19627; AD 2019-08-06]

RIN 2120-AA64

Airworthiness Directives; Airbus SAS Airplanes

AGENCY: Federal Aviation Administration (FAA), Department of Transportation (DOT).

ACTION: Final rule.

SUMMARY: We are superseding Airworthiness Directive (AD) 2016-16-01, which applied to certain Airbus SAS Model A330-200 Freighter, -200, and -300 series airplanes. AD 2016-16-01 required an inspection of affected structural parts in the cargo and cabin compartments to determine if proper heat treatment has been done, and replacement or repair if necessary. This AD retains the requirements of AD 2016-16-01 and requires inspection of additional locations of the cabin compartment structure. This AD was prompted by a report of a manufacturing defect (i.e., improperly heat-treated materials) that affects the durability of affected parts in the cargo and cabin compartments. We are issuing this AD to address the unsafe condition on these products.

DATES: This AD is effective June 13, 2019.

The Director of the Federal Register approved the incorporation by reference of a certain publication listed in this AD as of June 13, 2019.

ADDRESSES: For service information identified in this final rule, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-1005.

Examining the AD Docket

You may examine the AD docket on the internet at http://www.regulations.gov by searching for and locating Docket No. FAA-2018-1005; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We issued a notice of proposed rulemaking (NPRM) to amend 14 CFR part 39 to supersede AD 2016-16-01, Amendment 39-18599 (81 FR 51325, August 4, 2016; corrected September 1, 2016 (81 FR 60246)) (“AD 2016-16-01”). AD 2016-16-01 applied to certain Airbus SAS Model A300-200 Freighter, -200, and -300 series airplanes. The NPRM published in the Federal Register on December 10, 2018 (83 FR 63444). The NPRM was prompted by a report of a manufacturing defect (i.e., improperly heat-treated materials) that affects the durability of affected parts in the cargo and cabin compartments. The NPRM proposed to continue to require an inspection of affected structural parts in the cargo and cabin compartments to determine if proper heat treatment has been done, and replacement or repair if necessary. The NPRM also proposed to require inspection of additional locations of the cabin compartment structure. We are issuing this AD to address crack initiation and propagation in affected parts in the cargo and cabin compartments, which could result in reduced structural integrity of the fuselage.

The European Aviation Safety Agency (EASA), which is the Technical Agent for the Member States of the European Union, issued EASA AD 2018-0147, dated July 13, 2018 (referred to after this as the Mandatory Continuing Airworthiness Information, or “the MCAI”), to correct an unsafe condition for certain Airbus SAS Model A330-200 Freighter, -200, and -300 series airplanes. The MCAI states:

It was determined that several structural parts, intended for cargo or cabin compartment installation, were manufactured from improperly heat-treated materials. A subsequent review identified that some of those parts were installed on aeroplanes manufactured between November 2011 and February 2013. Consequently, Airbus implemented measures into manufacturing processes to ensure detection and to prevent further installation of such non-conforming parts. A detailed safety assessment was accomplished to identify the possible impact of these parts on the aeroplane structure. The result of this structural analysis demonstrated the capability of the affected structure to sustain static limit loads, but failed to confirm that the affected structures meet the certified fatigue life.

This condition, if not detected and corrected, could lead to crack initiation and propagation, possibly resulting in reduced structural integrity of the fuselage.

To address this unsafe condition, Airbus published the applicable SBs [service bulletins] to provide inspection instructions for affected structural cargo and cabin parts, respectively. Consequently, EASA issued AD 2015-0212 [which corresponds to FAA AD 2016-16-01] to require a one-time special detailed inspection (SDI) [eddy current inspection] to measure the electrical conductivity of affected parts, to identify the presence or absence of heat treatment, and, depending on findings, applicable corrective action(s) [replacement or repair].

Since that [EASA] AD was issued, Airbus identified that some additional affected parts, located in the cabin compartment structure, have been missed and need to be inspected. Consequently, Airbus issued SB A330-53-3228 Revision 01 to introduce the locations of those missed structural parts to be inspected.

For the reasons described above, this [EASA] AD retains the requirements of EASA AD 2015-0212, which is superseded, and expands the number and locations of structural parts to be inspected.

You may examine the MCAI in the AD docket on the internet at http://www.regulations.gov by searching for and locating Docket No. FAA-2018-1005.

Comments

We gave the public the opportunity to participate in developing this final rule. The following presents the comments received on the NPRM and the FAA's response.

Request To Delay Issuance of AD

American Airlines (American) stated its support for the NPRM, but noted that Airbus Service Bulletin A330-53-3228, Revision 01, dated April 11, 2018, included several errors, including mislabeled parts, parts depicted in the wrong locations, and incorrect figure references. American reported that Airbus has verified the errors, which Airbus indicated would be addressed in a revised service bulletin. To avoid the need for requests for alternative methods of compliance (AMOCs), American requested that we delay issuance of the AD until revised service information has been released.

We acknowledge the commenter's concerns. The amount of clarification needed would be too complex to include in this AD. We expect to work with Airbus and EASA to issue a global AMOC that addresses any known errors. In addition, we have added paragraph (n) in this AD, “Exception to Service Information Specifications,” to provide operators with information on how to address any other issues, if needed. We have redesignated subsequent paragraphs accordingly. We have also revised paragraphs (j), (k), (l)(2), and (m) of this AD to refer to this exception.

In light of the critical nature of the identified unsafe condition, we do not consider it warranted to delay the issuance of this final rule. If Airbus provides a revision to Airbus Service Bulletin A330-53-3228, Revision 01, dated April 11, 2018, we will review it in consideration of an AMOC for this AD, or we may consider future rulemaking action.

Conclusion

We reviewed the relevant data, considered the comments received, and determined that air safety and the public interest require adopting this final rule with the changes described previously and minor editorial changes. We have determined that these minor changes:

• Are consistent with the intent that was proposed in the NPRM for addressing the unsafe condition; and

• Do not add any additional burden upon the public than was already proposed in the NPRM.

We also determined that these changes will not increase the economic burden on any operator or increase the scope of this final rule.

Related Service Information Under 1 CFR Part 51

Airbus has issued Service Bulletin A330-53-3227, Revision 02, dated July 25, 2018, which describes procedures for inspecting affected structural parts in the cargo compartment to determine if proper heat treatment has been done, and replacing discrepant parts.

Airbus has also issued Service Bulletin A330-53-3228, Revision 01, dated April 11, 2018, which describes procedures for inspecting affected structural parts in the cabin compartment to determine if proper heat treatment has been done, doing additional work (inspecting additional locations of the cabin compartment structure), and doing related investigative and corrective actions. Related investigative actions include an eddy current inspection to verify the measurement from the inspection to determine if proper heat treatment has been done. Corrective actions include replacing discrepant parts.

This service information is reasonably available because the interested parties have access to it through their normal course of business or by the means identified in the ADDRESSES section.

Costs of Compliance

We estimate that this AD affects 20 airplanes of U.S. registry. We estimate the following costs to comply with this AD:

Estimated Costs for Required Actions
Actions | Labor cost | Parts cost | Cost per product | Cost on U.S. operators
Retained actions from AD 2016-16-01 | 11 work-hours × $85 per hour = $935 | $0 | $935 | $18,700
New additional work | 5 work-hours × $85 per hour = $425 | 0 | 425 | 8,500

We estimate the following costs to do any necessary on-condition action that would be required based on the results of any required actions. We have no way of determining the number of aircraft that might need this on-condition action:

Estimated Costs of On-Condition Action
Labor cost | Parts cost | Cost per product
45 work-hours × $85 per hour = $3,825 | $0 * | $3,825
* We have received no definitive data on the parts cost for the on-condition action.

According to the manufacturer, some or all of the costs of this AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-16-01, Amendment 39-18599 (81 FR 51325, August 4, 2016; corrected September 1, 2016 (81 FR 60246)), and adding the following new AD:

2019-08-06 Airbus SAS: Amendment 39-19627; Docket No. FAA-2018-1005; Product Identifier 2018-NM-109-AD.

(a) Effective Date

This AD is effective June 13, 2019.

(b) Affected ADs

This AD replaces AD 2016-16-01, Amendment 39-18599 (81 FR 51325, August 4, 2016; corrected September 1, 2016 (81 FR 60246)) (“AD 2016-16-01”).

(c) Applicability

This AD applies to the Airbus SAS airplanes, certificated in any category, identified in paragraphs (c)(1), (c)(2), and (c)(3) of this AD, manufacturer serial numbers 1175, 1180, 1287 through 1475 inclusive, 1478, 1480, 1483, and 1506.

(1) Model A330-223F and -243F airplanes.

(2) Model A330-201, -202, -203, -223, and -243 airplanes.

(3) Model A330-301, -302, -303, -321, -322, -323, -341, -342, and -343 airplanes.

(d) Subject

Air Transport Association (ATA) of America Code 53, Fuselage.

(e) Reason

This AD was prompted by a report of a manufacturing defect (i.e., improperly heat-treated materials) that affects the durability of affected parts in the cargo and cabin compartments. We are issuing this AD to address crack initiation and propagation in affected parts in the cargo and cabin compartments, which could result in reduced structural integrity of the fuselage.

(f) Compliance

Comply with this AD within the compliance times specified, unless already done.

(g) Retained Inspection of Affected Structure in the Cargo Compartment, With Revised Service Information

This paragraph restates the requirements of paragraph (g) of AD 2016-16-01, with revised service information. Within 72 months since first flight of the airplane, do an eddy current inspection (i.e., conductivity measurement) of affected structural parts in the cargo compartment to determine if proper heat treatment has been done as identified in, and in accordance with, the Accomplishment Instructions of Airbus Service Bulletin A330-53-3227, dated August 18, 2015; or Airbus Service Bulletin A330-53-3227, Revision 02, dated July 25, 2018. As of the effective date of this AD, only Airbus Service Bulletin A330-53-3227, Revision 02, dated July 25, 2018, may be used.

(h) Retained Replacement of Non-Conforming Parts in the Cargo Compartment, With Revised Service Information

This paragraph restates the requirements of paragraph (h) of AD 2016-16-01, with revised service information. If, during the inspection required by paragraph (g) of this AD, an affected structural part in the cargo compartment is identified to have a measured value greater than 26 megasiemens per meter (MS/m), or greater than 44.8% International Annealed Copper Standard (IACS), before further flight, replace the affected structural part with a serviceable part, in accordance with the Accomplishment Instructions of Airbus Service Bulletin A330-53-3227, dated August 18, 2015; or Airbus Service Bulletin A330-53-3227, Revision 02, dated July 25, 2018. As of the effective date of this AD, only Airbus Service Bulletin A330-53-3227, Revision 02, dated July 25, 2018, may be used.

(i) Retained Repair of Non-Conforming Parts in the Cargo Compartment, With Revised Service Information

This paragraph restates the requirements of paragraph (i) of AD 2016-16-01, with revised service information. If, during the inspection required by paragraph (g) of this AD, an affected structural part in the cargo compartment is identified to have a measured value other than those specified in Figure A-GFAAA, Sheet 01, “Inspection Flowchart,” of Airbus Service Bulletin A330-53-3227, dated August 18, 2015; or Airbus Service Bulletin A330-53-3227, Revision 02, dated July 25, 2018; before further flight, repair using a method approved by the Manager, International Section, Transport Standards Branch, FAA; or the European Aviation Safety Agency (EASA); or Airbus SAS's EASA Design Organization Approval (DOA). If approved by the DOA, the approval must include the DOA-authorized signature. As of the effective date of this AD, only Airbus Service Bulletin A330-53-3227, Revision 02, dated July 25, 2018, may be used to identify the measured value.

(j) Retained Inspection of Affected Structure in the Cabin Compartment, With Revised Service Information

This paragraph restates the requirements of paragraph (j) of AD 2016-16-01, with revised service information. Within 72 months since first flight of the airplane, do an eddy current inspection of affected structural parts in the cabin compartment to determine if proper heat treatment has been done as identified in, and in accordance with, the Accomplishment Instructions of Airbus Service Bulletin A330-53-3228, dated August 18, 2015; or Airbus Service Bulletin A330-53-3228, Revision 01, dated April 11, 2018, except as required by paragraph (n) of this AD. As of the effective date of this AD, only Airbus Service Bulletin A330-53-3228, Revision 01, dated April 11, 2018, except as required by paragraph (n) of this AD, may be used.

(k) Retained Replacement of Non-Conforming Parts in the Cabin Compartment, With Revised Service Information

This paragraph restates the requirements of paragraph (k) of AD 2016-16-01, with revised service information. If, during the inspection required by paragraph (j) of this AD, an affected structural part in the cabin compartment is identified to have a measured value greater than 26 MS/m or greater than 44.8% IACS, before further flight, replace the affected structural part with a serviceable part, in accordance with the Accomplishment Instructions of Airbus Service Bulletin A330-53-3228, dated August 18, 2015; or Airbus Service Bulletin A330-53-3228, Revision 01, dated April 11, 2018, except as required by paragraph (n) of this AD. As of the effective date of this AD, only Airbus Service Bulletin A330-53-3228, Revision 01, dated April 11, 2018, except as required by paragraph (n) of this AD, may be used.

(l) Retained Repair of Non-Conforming Parts in the Cabin Compartment, With Revised Service Information and New Alternative Actions

This paragraph restates the requirements of paragraph (l) of AD 2016-16-01, with revised service information and new alternative actions. If, during the inspection required by paragraph (j) of this AD, an affected structural part in the cabin compartment is identified to have a measured value other than those specified in Figure A-GFAAA, Sheet 01, “Inspection Flowchart,” of Airbus Service Bulletin A330-53-3228, dated August 18, 2015; or to have a measured value between 22 MS/m and 26 MS/m or between 37.9 and 44.8% IACS, as specified in Airbus Service Bulletin A330-53-3228, Revision 01, dated April 11, 2018; before further flight, do the actions specified in paragraph (l)(1) or (l)(2) of this AD. As of the effective date of this AD, only Airbus Service Bulletin A330-53-3228, Revision 01, dated April 11, 2018, may be used to identify the measured value.

(1) Repair using a method approved by the Manager, International Section, Transport Standards Branch, FAA; or the EASA; or Airbus SAS's EASA DOA. If approved by the DOA, the approval must include the DOA-authorized signature.

(2) Do an eddy current inspection to verify the measurement, in accordance with the Accomplishment Instructions of Airbus Service Bulletin A330-53-3228, Revision 01, dated April 11, 2018, except as required by paragraph (n) of this AD.

(i) If an affected structural part in the cabin compartment is identified to have a measured value between 22 MS/m and 26 MS/m or between 37.9 and 44.8% IACS, before further flight, repair using a method approved by the Manager, International Section, Transport Standards Branch, FAA; or the EASA; or Airbus SAS's EASA DOA. If approved by the DOA, the approval must include the DOA-authorized signature.

(ii) If an affected structural part in the cabin compartment is identified to have a measured value greater than 26 MS/m or greater than 44.8% IACS, before further flight, do the replacement specified in paragraph (k) of this AD.

(m) New Requirement of This AD: Inspection of Additional Cabin Locations

For an airplane on which the cabin compartment structure was inspected and corrective actions were done before the effective date of this AD as specified in the Accomplishment Instructions of Airbus Service Bulletin A330-53-3228, dated August 18, 2015: Before exceeding 108 months since the airplane's first flight, do an eddy current conductivity test of the forward cabin overhead compartment, and do all applicable related investigative and corrective actions, in accordance with the applicable “additional work” task in the Accomplishment Instructions of Airbus Service Bulletin A330-53-3228, Revision 01, dated April 11, 2018, except as required by paragraph (n) of this AD. Do all applicable related investigative and corrective actions before further flight. Where Airbus Service Bulletin A330-53-3228, Revision 01, dated April 11, 2018, specifies to contact Airbus for appropriate action: Before further flight, accomplish corrective actions in accordance with the procedures specified in paragraph (q)(2) of this AD.

(n) Exception to Service Information Specifications

Any required action specified in Airbus Service Bulletin A330-53-3228, Revision 01, dated April 11, 2018, that cannot be accomplished as specified therein must be accomplished using a method approved in accordance with the procedures specified in paragraph (q)(1) of this AD.

(o) No Reporting

Although Airbus Service Bulletin A330-53-3227, Revision 02, dated July 25, 2018; and Airbus Service Bulletin A330-53-3228, Revision 01, dated April 11, 2018; specify to submit certain information to the manufacturer, and specify that action as “RC” (required for compliance), this AD does not include that requirement.

(p) Credit for Previous Actions

(1) This paragraph provides credit for the actions specified in paragraphs (g), (h), and (i) of this AD, if those actions were performed before the effective date of this AD using the following service information.

(i) Airbus Service Bulletin A330-53-3227, dated August 18, 2015, which was incorporated by reference in AD 2016-16-01.

(ii) Airbus Service Bulletin A330-53-3227, Revision 01, dated July 5, 2016.

(2) This paragraph provides credit for the actions specified in paragraphs (j), (k), and (l) of this AD, if those actions were performed before the effective date of this AD using Airbus Service Bulletin A330-53-3228, dated August 18, 2015, which was incorporated by reference in AD 2016-16-01.

(q) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (r)(2) of this AD. Information may be emailed to 9-ANM-116-AMOC-REQUESTS@faa.gov.

(i) Before using any approved AMOC, notify your appropriate principal inspector, or lacking a principal inspector, the manager of the local flight standards district office/certificate holding district office.

(ii) AMOC letters ANM-116-17-118, dated February 2, 2017; and AIR-676-18-369, dated September 17, 2018; approved previously for AD 2016-16-01, are approved as AMOCs for the corresponding provisions of this AD.

(2) Contacting the Manufacturer: As of the effective date of this AD, for any requirement in this AD to obtain corrective actions from a manufacturer, the action must be accomplished using a method approved by the Manager, International Section, Transport Standards Branch, FAA; or the EASA; or Airbus SAS's EASA DOA. If approved by the DOA, the approval must include the DOA-authorized signature.

(3) Required for Compliance (RC): Except as required by paragraphs (i), (l), (m), and (p) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA AD 2018-0147, dated July 13, 2018, for related information. This MCAI may be found in the AD docket on the internet at http://www.regulations.gov by searching for and locating Docket No. FAA-2018-1005.

(2) For more information about this AD, contact Vladimir Ulyanov, Aerospace Engineer, International Section, Transport Standards Branch, FAA, 2200 South 216th St., Des Moines, WA 98198; telephone and fax 206-231-3229.

(3) Service information identified in this AD that is not incorporated by reference is available at the addresses specified in paragraphs (s)(4) and (s)(5) of this AD.

(s) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on June 13, 2019.

(i) Airbus Service Bulletin A330-53-3227, Revision 02, dated July 25, 2018.

(ii) Airbus Service Bulletin A330-53-3228, Revision 01, dated April 11, 2018.

(4) For service information identified in this AD, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com.

(5) You may view this service information at the FAA, Transport Standards Branch, 2200 South 216th St., Des Moines, WA. For information on the availability of this material at the FAA, call 206-231-3195.

(6) You may view this service information that is incorporated by reference at the National Archives and Records Administration (NARA). For information on the availability of this material at NARA, call 202-741-6030, or go to: http://www.archives.gov/federal-register/cfr/ibr-locations.html.

Issued in Des Moines, Washington, on April 25, 2019.
Michael Kaszycki,
Acting Director, System Oversight Division, Aircraft Certification Service.

[FR Doc. 2019-09523 Filed 5-8-19; 8:45 am]

BILLING CODE 4910-13-P